DEPARTMENT OF DEFENSE

GENERAL SERVICES ADMINISTRATION

NATIONAL AERONAUTICS AND SPACE ADMINISTRATION

[OMB Control No. 9000-0134; Docket 2017-0053; Sequence 4]

Submission for OMB Review; Environmentally Sound Products

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division will be submitting to the Office of Management and Budget (OMB) a request to review and approve an extension of a previously approved information collection requirement concerning environmentally sound products. A notice published in the Federal Register at 82 FR 20339 on June 30, 2017. No comments were received.

DATES: Submit comments on or before August 28, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number 9000-0134. Select the link “Comment Now” that corresponds with “Information Collection 9000-0134, Environmentally Sound Products”. Follow the instructions provided on the screen. Please include your name, company name (if any), and “Information Collection 9000-0134, Environmentally Sound Products” on your attached document.

• Mail: General Services Administration, Regulatory Secretariat Division (MVCB), 1800 F Street NW., Washington, DC 20405. ATTN: Ms. Jo Ann Sosa/IC 9000-0134, Environmentally Sound Products.

Instructions: Please submit comments only and cite Information Collection 9000-0134, Environmentally Sound Products, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Charles Gray, Procurement Analyst, Governmentwide Acquisition Policy, GSA, 703-795-6328 or charles.gray@gsa.gov.

SUPPLEMENTARY INFORMATION:

A. Purpose

OMB clearance 9000-0134 supports the information collection requirement contained in 52.223-9, Estimate of Percentage of Recovered Material Content for EPA-designated Items. Section 6002 of the Resource Conservation and Recovery Act (RCRA), Public Law 94-580, (42 U.S.C. 6962), requires Federal agencies to develop affirmative procurement programs to ensure that items composed of recovered materials will be purchased to the maximum extent practicable. An agency's affirmative procurement program must include: (1) A recovered materials preference program and an agency promotion program for the preference program; (2) a program for requiring estimates of the total percentage of recovered materials used in the performance of a contract, certification of minimum recovered material content used, and where appropriate and reasonable, verification procedures for estimates and certifications; and (3) annual review and monitoring of the effectiveness of an agency's affirmative procurement program.

For items the Environmental Protection Agency (EPA) has designated as produced or that can be produced from recovered material, agencies are required to track the percentaage of recovered material content used during contract performance. This requirement applies whenever an acquisition sets forth minimum percentages of recovered materials; when the price of the item exceeds $10,000; or when the aggregate amount paid for the item or functionally equivalent items in the preceding fiscal year was $10,000 or more.

Pursuant to FAR clause 52.223-9, when the contract requires the delivery of or use of an EPA-designated item, contractors shall report the estimated percentage of total recovered material content delivered or used, at contract completion. The clause is included in solicitations and contracts exceeding $150,000, except for acquisitions of commercially-available, off-the-shelf (COTS) items.

B. Annual Reporting Burden

Respondents: 1,047.

Responses per Respondent: 1.5.

Annual Responses: 1,571.

Hours per Response: .50.

Total Burden Hours: 785.

C. Public Comments

Public Comments are particularly invited on: Whether this collection of information is necessary for the proper performance of functions of the Federal Acquisition Regulation (FAR), and whether it will have practical utility; whether our estimate of the public burden of this collection of information is accurate, and based on valid assumptions and methodology; ways to enhance the quality, utility, and clarity of the information to be collected; and ways in which we can minimize the burden of the collection of information on those who are to respond, through the use of appropriate technilogical collection techniques or other forms of information technology.

Obtaining Copies of Proposals: Requesters may obtain a copy of the information collection documents from the General Services Administration, Regulatory Secretariat Division (MVCB), 1800 F Street NW., Washington, DC 20405, telephone 202-501-4755.

Please cite OMB control No. 9000-0134, Environmentally Sound Products, in all correspondence.

Dated: July 25, 2017.
Lorin S. Curit,
Director, Federal Acquisition Policy Division, Office of Governmentwide Acquisition Policy, Office of Acquisition Policy, Office of Governmentwide Policy.

[FR Doc. 2017-15931 Filed 7-27-17; 8:45 am]

BILLING CODE 6820-EP-P